FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 24, 2021.

A. Federal Reserve Bank of Minneapolis (Chris P. Wangen, Assistant Vice President), 90 Hennepin Avenue, Minneapolis, Minnesota 55480-0291. Comments can also be sent electronically to MA@mpls.frb.org:

1. The Paul K. Martinson Irrevocable Trust (in formation), Kari A.M. Nelson, as trustee, the Anna K. Martin Irrevocable Trust (in formation), Paul K. Martinson, as trustee, and Anna K. Martinson, all of Glenwood, Minnesota; and the Eric W. Nelson Irrevocable Trust (in formation), Kirsten R.M. Nelson, as trustee, both of Alexandria, Minnesota; to join the Nelson-Martinson Family Shareholder Group, a group acting in concert, to acquire voting shares of Financial Services of Lowry, Inc., Lowry, Minnesota, and thereby indirectly acquire voting shares of Lowry State Bank, Lowry, Minnesota, and First National Bank of Osakis, Osakis, Minnesota.

2. Gene R. Mottes, Iron River, Michigan; to acquire voting shares of MSB Bankshares, Inc., and thereby indirectly acquire voting shares of The Miners State Bank, both of Iron River, Michigan.

B. Federal Reserve Bank of Kansas City (Jeffrey Imgarten, Assistant Vice President) 1 Memorial Drive, Kansas City, Missouri 64198-0001:

1. Kyle Heckman, Lafayette, Colorado, individually, and as trustee of the Flatirons Bank Employee Stock Ownership Plan and Trust, Boulder, Colorado; to acquire voting shares of FBHC Holding Company, Boulder, Colorado, and thereby indirectly acquire voting shares of Flatirons Bank, Boulder, Colorado.

Board of Governors of the Federal Reserve System, November 4, 2021.
Michele Taylor Fennell,
Deputy Associate Secretary of the Board.

[FR Doc. 2021-24480 Filed 11-8-21; 8:45 am]

BILLING CODE P